DEPARTMENT OF TRANSPORTATION

Federal Aviation Administration

14 CFR Part 71

[Docket No. FAA-2012-0433; Airspace Docket No. 12-AAL-5]

Proposed Establishment of Class D Airspace; Bryant AAF, Anchorage, AK

AGENCY: Federal Aviation Administration (FAA), DOT.

ACTION: Supplemental notice of proposed rulemaking (SNPRM).

SUMMARY: The FAA is issuing a SNPRM for the Notice of Proposed Rulemaking (NPRM) published on August 22, 2012 to establish Class D airspace at Bryant Army Airfield (AAF), Anchorage, AK. After review of comments received, the FAA determined that the portion of controlled airspace east of Glenn Highway needs further review and, therefore, would be eliminated from this proposal for the safety and management of aircraft operations at the airport.

DATES: Comments must be received on or before July 25, 2013.

ADDRESSES: Send comments on this proposal to the U.S. Department of Transportation, Docket Operations, M-30, West Building Ground Floor, Room W12-140, 1200 New Jersey Avenue SE., Washington, DC, 20590; telephone (202) 366-9826. You must identify FAA Docket No. FAA-2012-0433; Airspace Docket No. 12-AAL-5, at the beginning of your comments. You may also submit comments through the Internet at http://www.regulations.gov.

FOR FURTHER INFORMATION CONTACT: Richard Roberts, Federal Aviation Administration, Operations Support Group, Western Service Center, 1601 Lind Avenue SW., Renton, WA 98057; telephone (425) 203-4517.

SUPPLEMENTARY INFORMATION:

History

On August 22, 2012, the FAA published a NPRM to establish Class D airspace at Bryant AAF, Anchorage, AK, to provide controlled airspace due to an increase in the complexity, volume and variety of aircraft in the immediate vicinity of Bryant AAF (77 FR 50646). Thirteen comments were received, including comments from the Aircraft Owners and Pilots Association (AOPA), Alaska Airmen's Association (AAA), and the Alaskan Aviation Safety Foundation (AASF). One commenter believes it is a good idea to reestablish the Class D airspace, which previously existed at Bryant AAF.

AOPA identified three issues that affect pilots using the Eastside VFR corridor they would like to see addressed. These include the impact on pilots' situational awareness due to additional communication frequencies to monitor, the possible compression of traffic using the Eastside VFR flyway (Glenn Highway), and the availability of weather information at Fort Richardson. The FAA agrees that additional information is needed to adequately address these concerns and will exclude that portion of the original design east of the highway from the surface to 1,600 feet MSL. The FAA does not agree with their concern for weather observation. The establishment of Class D airspace requires weather observation at the primary airport (Bryant AAF). As part of the activation of this airspace the United States Air Force (USAF) will assume responsibility for weather support and dissemination through normal means.

AASF, along with several commenters, requested additional time to review the proposal. They were concerned with the impact of the proposal on pilots operating east of Glenn Highway, citing an increase in military aircraft operating east of the highway, a possible change in communication requirements, a potential negative impact in the pilots' situational awareness, the compression of traffic along the VFR corridor, a decrease in safety when weather is below 1600 feet AGL; and that reestablishment of the Class D at Bryant AAF will reduce the maneuvering room for aircraft entering the Merrill Field airspace area. The FAA finds merit in these comments and will exclude that portion of the original design east of the highway from the surface to 1,600 feet MSL. AASF also noted that there was an error in the latitude and longitude for two waypoints, which has been corrected in this SNPRM; and AWOS weather observation needs to be broadcast through all normal weather dissemination channels. The USAF will assume responsibility for weather support and dissemination through normal methods at the primary airport (Bryant AAF) as required for Class D airspace.

The AAA requested additional time to review the proposal and that the entire composition of airspace be considered before making a determination. The FAA has completed an aeronautical study of the air traffic operations in this area and concludes that the majority of air traffic transits east of Glenn Highway. As previously stated, the FAA has excluded that portion east of Glenn Highway.

Remove Return

After review of public comments, analysis of the traffic flow and the operational requirements for this area, the FAA believes the effects of operating with Class D airspace east of Glenn Highway would require further study. This SNPRM has excluded that portion of the original design east of the highway from the surface to 1,600 feet MSL. The FAA seeks comments on this SNPRM.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA 2012-0433 and Airspace Docket No. 12-AAL-5) and be submitted in triplicate to the Docket Management System (see ADDRESSES section for address and phone number). You may also submit comments through the Internet at http://www.regulations.gov.

Commenters wishing the FAA to acknowledge receipt of their comments on this action must submit with those comments a self-addressed stamped postcard on which the following statement is made: “Comments to FAA Docket No. FAA-2012-0433 and airspace Docket No. 12-AAL-5”. The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 1601 Lind Avenue SW., Renton, WA 98057.

Persons interested in being placed on a mailing list for future NPRM's should contact the FAA's Office of Rulemaking, (202) 267-9677, for a copy of Advisory Circular No. 11-2A, Notice of Proposed Rulemaking Distribution System, which describes the application procedure.

The Supplemental Proposal

The FAA is proposing an amendment to Title 14 Code of Federal Regulations (14 CFR) part 71 by establishing Class D airspace extending upward from the surface to and including 2,900 feet MSL at Bryant AAF, Anchorage AK. Controlled airspace is necessary to accommodate the increased volume and variety of aircraft arriving and departing the immediate vicinity of Bryant AAF. This action would enhance the safety and management of terminal VFR operations at the airport.

Class D airspace designations are published in paragraph 5000 of FAA Order 7400.9W, dated August 8, 2012, and effective September 15, 2012, which is incorporated by reference in 14 CFR 71.1. The Class D airspace designation listed in this document will be published subsequently in this Order.

The FAA has determined that this proposed regulation only involves an established body of technical regulations for which frequent and routine amendments are necessary to keep them operationally current. Therefore, this proposed regulation; (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, would not have a significant economic impact on a substantial number of small entities under the criteria of the Regulatory Flexibility Act.

The FAA's authority to issue rules regarding aviation safety is found in Title 49 of the U.S. Code. Subtitle 1, Section 106, describes the authority for the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish controlled airspace at Bryant AAF, Anchorage AK.

This proposal will be subject to an environmental analysis in accordance with FAA Order 1050.1E, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012, is amended as follows:

Paragraph 5000 Class D Airspace.

* * * * *

AAL AK D Bryant Army Airfield, Anchorage AK [NEW]

Bryant AAF, AK

(Lat. 61°15′57″ N., long. 149°39′12″ W.)

That airspace extending upward from the surface to and including 2,900 feet MSL within an area bounded by a line beginning at lat. 61°17′3″ N., long. 149°37′35″ W.; to lat. 61°17′13″ N., long. 149°43′08″ W.; to lat. 61°13′49″ N., long. 149°43′08″ W.; to lat. 61°13′54″ N., long. 149°42′44″ W.; to lat. 61°14′24″ N., long. 149°41′23″ W.; to lat. 61°15′54″ N., long. 149°38′20″ W.; thence to the point of beginning.

Issued in Seattle, Washington, on May 24, 2013.
Clark Desing,
Manager, Operations Support Group, Western Service Center.

[FR Doc. 2013-13596 Filed 6-7-13; 8:45 am]

BILLING CODE 4910-13-P